FEDERAL COMMUNICATIONS COMMISSION

47 CFR Part 76

[MB Docket No. 07-29; FCC 07-169]

Implementation of the Cable Television Consumer Protection and Competition Act of 1992 and Development of Competition and Diversity in Video Programming Distribution: Section 628(c)(5) of the Communications Act—Sunset of Exclusive Contract Prohibition

AGENCY: Federal Communications Commission.

ACTION: Final rule; announcement of effective date.

SUMMARY: The Federal Communications Commission adopted rules revising the procedures applicable to program access complaint proceedings. Certain changes to the rules require Office of Management and Budget (OMB) approval to become effective. This document announces the effective date of these rules.

DATES: The rules published on October 4, 2007, 72 FR 56645, amending 47 CFR 76.1003(e)(1) and (j) are effective March 7, 2008.

FOR FURTHER INFORMATION CONTACT: For further information on this proceeding, contact David Konczal, David.Konczal@fcc.gov, of the Media Bureau, Policy Division, (202) 418-2120. Questions concerning the OMB control number should be directed to Cathy Williams, Federal Communications Commission, 202-418-2918, or via the Internet at Cathy.Williams@fcc.gov.

SUPPLEMENTARY INFORMATION: In a Report and Order (“Order”) released on October 1, 2007, FCC 07-169, and published in the Federal Register on October 4, 2007, 72 FR 56645, the Federal Communications Commission adopted rules revising the procedures applicable to program access complaint proceedings which contained information collection requirements subject to the Paperwork Reduction Act. The Report and Order stated that the rule changes requiring OMB approval would become effective immediately upon announcement of OMB approval in the Federal Register. On February 15, 2008, the OMB approved the information collection requirements contained in 47 CFR 76.1003(e)(1) and (j). This information collection is assigned OMB Control Number 3060-0888. This publication satisfies the statement that the Commission would publish a document announcing the effective date of the rule changes requiring OMB approval.

Federal Communications Commission.
Marlene H. Dortch,
Secretary.

[FR Doc. E8-4452 Filed 3-6-08; 8:45 am]

BILLING CODE 6712-01-P